DEPARTMENT OF HEALTH AND HUMAN SERVICES

Centers for Medicare & Medicaid Services

[Document Identifier: CMS-10123 & 10124, CMS-21/21B, CMS-64, CMS-R-43, CMS-R-209, and CMS-R-245]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Expedited Review notices and Supporting Regulations contained in 42 CFR 405.1200 and 405.1202; Use: These notices are used to inform beneficiaries that their provider services will end, and to provide beneficiaries who request an expedited determination with detailed information of why the services should end. This application requests approval of an information collection associated with CMS-4004-FC, [Medicare Program: Expedited Determination Procedures for Provider Service Terminations.] The rule provides for an expedited appeal when a Medicare beneficiary receives notice from a provider of services that his or her Medicare covered services will be terminated. The rule allows beneficiaries to request an expedited determination by a Quality Improvement Organization on whether such services should continue. Providers affected by the rule include home health agencies, comprehensive outpatient rehabilitation facilities, and hospices; Form Numbers: CMS-10123 & 10124 (OMB# 0938-NEW); Frequency: On occasion; Affected Public: Individuals or Households, Business or other for-profit, and Not-for-profit institutions; Number of Respondents: 4,200,000; Total Annual Responses: 4,200,000; Total Annual Hours: 379,400.

2. Type of Information Request: Extension of a currently approved collection; Title of Information Collection: Quarterly Children's Health Insurance Program (CHIP) Statement of Expenditures for Title XXI; Use: States use forms CMS-21 and CMS-21B to report budget, expenditure, and related statistical information required for implementation of the Children's Health Insurance Program. The information provided by these forms is used by CMS to prepare the grant awards to States for the Medicaid and CHIP programs, to ensure that the appropriate level of Federal payments for State expenditures under the Medicaid program and CHIP are made in accordance with the CHIP related Balanced Budget Act legislation provisions, and to track, monitor, and evaluate the numbers of related children being served by the Medicaid and CHIP programs; Form Number: CMS-21 and CMS-21B (OMB# 0938-0731); Frequency: Quarterly; Affected Public: State, local or tribal government; Number of Respondents: 56; Total Annual Responses: 448; Total Annual Hours: 7,840.

3. Type of Information Request: Extension of a currently approved collection; Title of Information Collection: Quarterly Medicaid Statement of Expenditures for the Medical Assistance Program; Use: The State Medicaid agencies use the form CMS-64 for the Medical Assistance Program to report their actual program benefit costs and administrative expenses to CMS. CMS uses this information to compute the Federal financial participation for the State's Medicaid Program costs; Form Number: CMS-64 (OMB# 0938-0067); Frequency: Quarterly; Affected Public: State, Local or Tribal Government; Number of Respondents: 56; Total Annual Responses: 224; Total Annual Hours: 18,144.

4. Type of Information Request: Extension of a currently approved collection; Title of Information Collection: Conditions of Participation for X-ray Suppliers and Supporting Regulations in 42 CFR 486.104, 486.106, and 486.110; Use: The information is required to certify portable X-ray suppliers wishing to participate in the Medicare program. The information collection is needed to determine if portable X-ray suppliers are in compliance with published health and safety requirements. This is standard medical practice and is necessary in order to ensure the well-being and safety of patients and professional treatment accountability; Form Number: CMS-R-43 (OMB# 0938-0338); Frequency: Recordkeeping; Affected Public: Business or other for-profit, Not-for-profit institutions; Number of Respondents: 602; Total Annual Responses: 602; Total Annual Hours: 1,505.

5. Type of Information Collection Request: Extension of a currently approved collection; Title of Information Collection: Medicare and Medicaid: Use and Reporting OASIS Data as Part of the Conditions of Participation (CoPs) for Home Health Agencies (HHAs) and Supporting Regulations in 42 CFR 484.11 and 484.20; Use: HHAs are required to report data from the OASIS as a condition of participation. Specifically, the above named regulation sections provide guidelines for HHAs for the electronic transmission of the OASIS data as well as responsibilities of the State agency or OASIS contractor in collecting and transmitting this information to CMS. These requirements are necessary to achieve broad-based, measurable improvement, in the quality of care furnished through Federal programs, and to establish a prospective payment system for HHAs; Form Numbers: CMS-R-209 (OMB# 0938-0761); Frequency: Monthly; Affected Public: Business or other for-profit, Not-for-profit institutions, Federal Government, and State, Local or Tribal Government; Number of Respondents: 7,582; Total Annual Responses: 93,621; Total Annual Hours: 921,271.

6. Type of Information Collection Request: Extension of a currently approved collection; Title of Information Collection: Medicare and Medicaid Programs OASIS Collection Requirements as Part of the Conditions of Participation for Home Health Agencies (HHAs) and Supporting Regulations in 42 CFR 484.55, 484.205, 484.245, 484.250; Use: Type of Information Collection Request: Extension of a currently approved collection; Title of Information Collection: Medicare and Medicaid Programs OASIS Collection Requirements as Part of the Conditions of Participation for Home Health Agencies (HHAs) and Supporting Regulations in 42 CFR 484.55, 484.205, 484.245, 484.250; Use: This collection requires HHAs to use a standard core assessment data set, the OASIS, to collect information and to evaluate adult non-maternity patients. In addition, data from the OASIS will be used for purposes of case-mix adjusting patients under home health PPS, and will facilitate the production of necessary case-mix information at relevant time intervals in the patient's home health stay. Modifications were previously made to the OASIS forms to allow for the preservation of masking of personally identifiable information for the non-Medicare/non-Medicaid individuals.; Form Numbers: CMS-R-245 (OMB# 0938-0760); Frequency: Other “ Upon patient assessment; Affected Public: Business or other for-profit, Not-for-profit institutions, Federal Government, and State, Local or Tribal Government; Number of Respondents: 7,582; Total Annual Responses: 10,156,569; Total Annual Hours: 8,556,995.

To obtain copies of the supporting statement and any related forms for the proposed paperwork collections referenced above, access CMS Web site address at http://www.cms.hhs.gov/regulations/pra/, or E-mail your request, including your address, phone number, OMB number, and CMS document identifier, to Paperwork@cms.hhs.gov, or call the Reports Clearance Office on (410) 786-1326.

Written comments and recommendations for the proposed information collections must be mailed within 30 days of this notice directly to the OMB desk officer: OMB Human Resources and Housing Branch, Attention: Christopher Martin, New Executive Office Building, Room 10235,Washington, DC 20503.

Dated: April 22, 2005.
Michelle Shortt,
Acting Director, Regulations Development Group, Office of Strategic Operations and Regulatory Affairs.

[FR Doc. 05-8712 Filed 4-28-05; 8:45 am]

BILLING CODE 4120-01-P